DEPARTMENT OF HOUSING AND URBAN DEVELOPMENT

[Docket No. FR-5605-N-01]

Notice of Proposed Information Collection; Comment Request: Fair Housing Initiatives Program Grant Application and Monitoring Reports

AGENCY: Office of the Assistant Secretary for Fair Housing and Equal Opportunity (FHEO), Department of Housing and Urban Development (HUD).

ACTION: Notice.

SUMMARY: The proposed information collection requirement described below will be submitted to the Office of Management and Budget (OMB) for review, as required by the Paperwork Reduction Act of 1995. The Department is soliciting public comments on the subject proposal.

This information is required by the grant application to assist the Department in selecting the highest ranked applicants to receive funds under the Fair Housing Initiatives Program and carry out fair housing enforcement and/or education and outreach activities under the following initiatives; Private Enforcement, Education and Outreach, and Fair Housing Organization. The information collected from quarterly and final progress reports and enforcement logs will enable the Department to evaluate the performance of agencies that receive funding and determine the impact of the program on preventing and eliminating discriminatory housing practices.

DATES: Comments Due Date: November 9, 2012.

ADDRESSES: Interested persons are invited to submit comments regarding this proposal. Comments should refer to the proposal by name and/or OMB Control Number and should be sent to Paula Stone, FHIP Division, Office of Programs, Department of Housing and Urban Development, 451 7th Street SW., Washington, DC 20410, Room 5222 or the number for the Federal Information Relay Service (1-800-877-8339).

FOR FURTHER INFORMATION CONTACT: Program Contact, Myron Newry, Director, FHIP Division, Office of Programs, Department of Housing and Urban Development, 451 7th Street SW., Washington, DC 20410, Room 5222, telephone (202) 402-7095 (this is not a toll free number) for copies of the proposed forms and other available information.

SUPPLEMENTARY INFORMATION: The Department is submitting the proposed information collection to OMB for review, as required by the Paperwork Reduction Act of 1995 (44 U.S.C. chapter 35, as amended).

This Notice is soliciting comments from members of the public and affected agencies concerning the proposed collection of information to: (1) Evaluate whether the proposed collection is necessary for the proper performance of the Department's program functions, including whether the information will have practical utility; (2) Evaluate the accuracy of the Department's assessment of the paperwork burden that may result from the proposed collection of information; (3) Enhance the quality, utility, and clarity of the information which may be collected; and (4) Minimize the burden of the information collection on responders, including the use of appropriate automated collection techniques or other forms of information technology (e.g., electronic transmission of data).

Title of Proposal: 24 CFR part 125, Fair Housing Initiatives Program.

OMB Control Number, if applicable: 2529-0033.

Description of the need for the information and proposed use: This is an extension of a currently approved information collection used to select applicants for the Fair Housing Initiatives Program (FHIP) grants under a FHIP Notice of Funding Availability (NOFA). These grants are to fund fair housing enforcement and/or education and outreach activities under the following initiatives: Administrative Enforcement; Private Enforcement, Education and Outreach, and Fair Housing Organizations. Additionally, the information is collected to monitor grants and grant funds.

Agency form numbers, if applicable: HUD 904 A, B and C, SF-425, SF-424, SF-LLL, HUD-2880, HUD-2990, HUD-2993, HUD-424CB, HUD-424-CBW, HUD2994-A, HUD-96010, and HUD-27061.

Members of the affected public: The collection of information involves Qualified Fair Housing Organizations (QFHOs); Fair Housing Organizations (FHOs); public or private non-profit organizations or institutions and other public or private entities that are working to prevent or eliminate discriminatory housing practices; State and local governments; and Fair Housing Assistant Program Agencies.

Estimation of the total numbers of hours needed to prepare the information collection including number of respondents, frequency of response, and hours of response: An estimation of 46,420 total hours is needed to prepare the information collection. The number of respondents is 400 with a frequency response of 1 per annum, and the total hours per respondent is 76.50 hours for application development. There is an estimated 104 agencies that will receive funding and have to provide quarterly and final reports, with approximately 59 having to provide Enforcement Logs and 1 agency reporting on a semi-annual basis. The estimated number of respondents is based on the average of the number of submissions for NOFA years 2009 to current. The number of hours is an average based on grantee estimates of time to review instructions, search existing data sources, prepare required responses to the application, complete the certification, and assemble exhibits.

Status of the proposed information collection: Extension of a currently approved collection.

Authority: The Paperwork Reduction Act of 1995, 44 U.S.C., Chapter 35, as amended.

Dated: August 3, 2012.
Sara Pratt,
Deputy Assistant Secretary for Enforcement and Programs.

[FR Doc. 2012-22215 Filed 9-7-12; 8:45 am]

BILLING CODE 4210-67-P